DEPARTMENT OF DEFENSE

Department of the Navy

Meeting of the Chief of Naval Operations (CNO) Executive Panel

AGENCY: Department of the Navy, DOD.

ACTION: Notice of closed meeting of the CNO Executive Panel.

SUMMARY: The CNO Executive Panel is to conduct the final briefing of the Expeditionary Sensors Task Force to the Chief of Naval Operations. This meeting will consist of discussions relating to how to best bring a robust sensor system with supporting networks into being.

DATES: The meeting will be held on January 19, 2001 from 9:30 to 11 a.m.

ADDRESSES: The meeting will be held at the office of the Chief of Naval Operations, 2000 Navy Pentagon, Washington, DC 20350-2000.

FOR FURTHER INFORMATION CONCERNING THIS MEETING CONTACT: Commander Christopher Agan, CNO Executive Panel, 4825 Mark Center Drive, Alexandria, Virginia 22311, (703) 681-6205.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of the meeting be closed to the public because they will be concerned with matters listed in section 552b(1) of title 5, United States Code.

Dated: December 14, 2000.
James L. Roth,
Lieutenant Commander, United States Navy, Judge Advocate General's Corps, Federal Register Liaison Officer

[FR Doc. 00-33053 Filed 12-27-00; 8:45 am]

BILLING CODE 3810-FF-P